DEPARTMENT OF COMMERCE

International Trade Administration

[A-489-829]

Steel Concrete Reinforcing Bar From the Republic of Turkey: Final Results of Antidumping Duty Administrative Review and Final Determination of No Shipments; 2018-2019

AGENCY: Enforcement and Compliance, International Trade Administration, Department of Commerce.

SUMMARY: The Department of Commerce (Commerce) finds that sales of steel concrete reinforcing bar (rebar) from the Republic of Turkey (Turkey) were made at less than normal value during the period of review (POR) July 1, 2018, through June 30, 2019.

DATES: Applicable May 27, 2021.

FOR FURTHER INFORMATION CONTACT: Robert Copyak or Thomas Dunne, AD/CVD Operations, Office VII, Enforcement and Compliance, International Trade Administration, U.S. Department of Commerce, 1401 Constitution Avenue NW, Washington, DC 20230; telephone: (202) 482-3642 or (202) 482-2328, respectively.

SUPPLEMENTARY INFORMATION:

Background

On November 24, 2020, Commerce published the Preliminary Results of this administrative review and invited interested parties to comment on the Preliminary Results.¹ These final results cover seven companies for which an administrative review was initiated and not rescinded. On December 22, 2020, Kaptan Demir Celik Endustrisi ve Ticaret A.S. (Kaptan Demir) and Icdas Celik Enerji Tersane ve Ulasim Sanayi A.S. (Icdas) (collectively, the respondents) filed a joint case brief.² Also, on the same day, the Rebar Trade Action Coalition (the petitioner) filed its case brief.³

¹ See Steel Concrete Reinforcing Bar from the Republic of Turkey: Preliminary Results of Antidumping Duty Administrative Review and Preliminary Determination of No-Shipments; 2018-2019, 85 FR 74983 (November 24, 2020) (Preliminary Results).

² See Respondents' Letter, “Steel Concrete Reinforcing Bar from the Republic of Turkey: Turkish Respondents' Case Brief,” dated December 22, 2020.

³ See Petitioner's Letter, “Steel Concrete Reinforcing Bar from the Republic of Turkey: RTAC's Case Brief,” dated December 22, 2020.

On January 8, 2021, we received a joint rebuttal brief from the respondents and a rebuttal brief from the petitioner.⁴ On February 26, 2021, Commerce rejected the respondents' case brief and the petitioner's rebuttal brief for containing untimely new factual information.⁵ On March 2, 2021, the respondents' submitted a revised case brief, and the petitioner submitted its revised rebuttal case brief.⁶

⁴ See Respondents' Letter, “Steel Concrete Reinforcing Bar from the Republic of Turkey: Turkish Respondents' Rebuttal Case Brief,” dated January 8, 2021; see also Petitioner's Letter, “Steel Concrete Reinforcing Bars from the Republic of Turkey: RTAC's Rebuttal Brief,” dated January 8, 2021.

⁵ See Commerce Letters, “Steel Concrete Reinforcing Bar from the Republic of Turkey—Rejection of Case Brief Containing Untimely New Factual Information,” dated February 26, 2021 and “Steel Concrete Reinforcing Bar from the Republic of Turkey—Rejection of Rebuttal Brief Containing Untimely New Factual Information,” dated February 26, 2021.

⁶ See Respondents' Letter, “Steel Concrete Reinforcing Bar from the Republic of Turkey: Submission of Turkish Respondents' Revised Case Brief,” dated March 2, 2021; see also Petitioner's Letter, “Steel Concrete Reinforcing Bar from Turkey: Resubmission of RTAC's Rebuttal Brief,” dated March 2, 2021.

On March 3, 2021, Commerce extended the deadline for these final results until May 21, 2021.⁷

⁷ See Memorandum, “Administrative Review of the Antidumping Duty Order on Steel Concrete Reinforcing Bar from the Republic of Turkey,” dated March 3, 2021.

Scope of the Order ⁸

⁸ See Steel Concrete Reinforcing Bar from the Republic of Turkey and Japan: Amended Final Affirmative Antidumping Duty Determination for the Republic of Turkey and Antidumping Duty Orders, 82 FR 32532 (July 14, 2017) (Order).

The scope of the Order covers rebar from Turkey. A full description of the scope of the Order is contained in the Issues and Decision Memorandum.⁹

⁹ See Memorandum, “Issues and Decision Memorandum for the Final Results of the 2018-2019 Administrative Review of the Antidumping Duty Order on Steel Concrete Reinforcing Bar from Turkey,” dated concurrently with, and hereby adopted by, this notice (Issues and Decision Memorandum).

Analysis of Comments Received

All issues raised in the case and rebuttal briefs filed by parties in this review are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html.

Changes Since the Preliminary Results

Based on our analysis of the comments received, and for the reasons explained in the Issues and Decision Memorandum, we made certain changes from the Preliminary Results.

Final Determination of No Shipments

For the Preliminary Results, we found that Habas Sinai ve Tibbi Gazlar Istihsal Endüstrisi A.S (Habas) did not have any shipments of subject merchandise during the POR. No parties commented on this preliminary determination. For the final results of review, we continue to find that Habas made no shipments of subject merchandise during the POR.

Final Results of Administrative Review

For these final results, we determine that the following weighted-average dumping margins exist for the period July 1, 2018, through June 30, 2019:

¹⁰ We have determined that the two company names (Icdas Celik Enerji Tersane ve Ulasim and Icdas) refer to the same company, and the rate calculated for Icdas applies to both company names. See Preliminary Results and accompanying Preliminary Decision Memorandum at 2.

¹¹ This rate is based on the rates for the respondents that were selected for individual review, excluding rates that are zero, de minimis, or based entirely on facts available. See section 735(c)(5)(A) of the Act; see also Memorandum, “Final Results of the Antidumping Administrative Review of Steel Concrete Reinforcing Bar from the Republic of Turkey; 2018-2019: Calculation of the Cash Deposit Rate for Non-Selected Companies,” dated concurrently with these final results (Non-Selected Companies Memorandum).

Producers/exporters | Weighted- average dumping margin (percent)
Icdas Celik Enerji Tersane ve Ulasim Sanayi A.S ¹⁰ | 5.30
Kaptan Demir Celik Endüstrisi ve Ticaret A.S | 12.41
Review-Specific Average Rate Applicable to the Following Companies: ¹¹
Colakoglu Dis Ticaret A.S | 7.05
Colakoglu Metalurji A.S | 7.05
Diler Dis Ticaret A.S | 7.05
Kaptan Metal Dis Ticaret ve Nakliyat A.S | 7.05

Rates for Non-Selected Companies

For the rate for non-selected respondents in an administrative review, generally, Commerce looks to section 735(c)(5) of the Act, which provides instructions for calculating the all-others rate in a market economy investigation. Under section 735(c)(5)(A) of the Act, the all-others rate is normally “an amount equal to the weighted-average of the estimated weighted average dumping margins established for exporters and producers individually investigated, excluding any zero or de minimis margins, and any margins determined entirely {on the basis of facts available}.” In this segment of the proceeding, we calculated margins for Kaptan Demir and Icdas that were not zero, de minimis, or based on facts available. Accordingly, Commerce calculated the cash deposit rate for the companies not selected for individual examination to be 7.05 percent using a weighted-average of the estimated weighted-average dumping margins calculated for Icdas and Kaptan Demir and each company's publicly-ranged values for the merchandise under consideration.¹²

¹² See Non-Selected Companies Memorandum.

Disclosure

Commerce intends to disclose the calculations performed for these final results of review within five days of the date of publication of this notice in the Federal Register, in accordance with 19 CFR 351.224(b).

Assessment Rates

Pursuant to section 751(a)(2)(A) of the Act and 19 CFR 351.212(b)(1), Commerce shall determine and U.S. Customs and Border Protection (CBP) shall assess antidumping duties on all appropriate entries. Commerce will instruct CBP to apply an ad valorem assessment rate of 12.41 percent to all entries of subject merchandise during the POR which were produced and/or exported by Kaptan Demir and an ad valorem assessment rate of 5.30 percent to all entries of subject merchandise during the POR which were produced and/or exported by Icdas. Commerce will also instruct CBP to apply an ad valorem assessment rate of 7.05 percent to all entries of subject merchandise during the POR which were produced and/or exported by Colakoglu Dis Ticaret A.S., Colakoglu Metalurji A.S., Diler Dis Ticaret A.S., and Kaptan Metal Dis Ticaret ve Nakliyat A.S. In addition, we continue to find that Habas had no shipments during the POR. Accordingly, consistent with Commerce's practice, we intend to instruct CBP to liquidate any existing entries of merchandise produced by Habas, but exported by other parties, at the rate for the intermediate reseller, if available, or at the all others rate.¹³ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹³ See Antidumping and Countervailing Duty Proceedings: Assessment of Antidumping Duties, 68 FR 23954 (May 6, 2003).

Cash Deposit Requirements

The following cash deposit requirements for estimated antidumping duties will be effective upon publication of the notice of these final results of review for all shipments of rebar from Turkey entered, or withdrawn from warehouse, for consumption on or after the date of publication as provided by section 751(a)(2) of the Act: (1) The cash deposit rate for Kaptan Demir will be 12.41 percent; (2) the cash deposit rate for Icdas will be 5.30 percent; (3) the cash deposit rate for Colakoglu Dis Ticaret A.S., Colakoglu Metalurji A.S., Diler Dis Ticaret A.S., and Kaptan Metal Dis Ticaret ve Nakliyat A.S. will be 7.05 percent; (4) for merchandise exported by producers or exporters not covered in this review but covered in a prior segment of the proceeding, the cash deposit rate will continue to be the company-specific rate published for the most recent period; (5) if the exporter is not a firm covered in this review, a prior review, or the original investigation, but the producer is, then the cash deposit rate will be the rate established for the most recent period for the producer of the merchandise; (6) the cash deposit rate for all other producers or exporters will continue to be 7.26 percent,¹⁴ the all-others rate established in the less-than-fair-value investigation. These cash deposit requirements shall remain in effect until further notice.

¹⁴ See Order, 82 FR at 32533.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: May 21, 2021.
Christian Marsh,
Acting Assistant Secretary for Enforcement and Compliance.

Appendix—List of Topics Discussed in the Issues and Decision Memorandum

I. Summary

II. Background

III. Scope of the Order

IV. Changes Since the Preliminary Results

V. Discussion of the Issues

Comment 1: Whether Commerce Should Use Contract Date for Kaptan Demir's U.S. Date of Sale

Comment 2: Whether Commerce Should Revise the Duty Drawback Adjustment Methodology

Comment 3: Whether Commerce Should Grant Icdas a Duty Drawback Adjustment

Comment 4: Whether There was High Inflation in Turkey During the Period of Review

Comment 5: Whether to Treat Section 232 Tariffs as U.S. Customs Duties

Comment 6: Whether Commerce Erred in Calculating Icdas' Margin in the Preliminary Results

Comment 7: Whether Commerce Should Change the Treatment of Late Payments in Icdas' Home Market and Margin Programs

Comment 8: Whether Commerce Should Activate a Macro Pertaining to Net Price for Kaptan Demir's Downstream Home Market Sales

VI. Recommendation

[FR Doc. 2021-11258 Filed 5-26-21; 8:45 am]

BILLING CODE 3510-DS-P